DEPARTMENT OF ENERGY

Federal Energy Regulatory Commission

[Project No. 13280-000]

UEK Corporation and Prospect Energy, LLC; Notice of Preliminary Permit Applications Accepted for Filing and Soliciting Comment, Motions To Intervene, and Competing Applications

November 28, 2008.

On August 12, 2008, UEK Corporation and Prospect Energy, LLC jointly filed an application, pursuant to section 4(f) of the Federal Power Act, proposing to study the feasibility of the Atchafalaya River II Project, to be located on the Atchafalaya River Concordia, Avoyelles, Point Coupee, St Landry, and West Feliciana Parishes, Louisiana.

The proposed Atchafalaya River II Project consists of: (1) 23 proposed UEK current generating units having a total installed capacity of 10 megawatts, (2) a proposed transmission line, and (3) appurtenant facilities. The UEK Corporation and Prospect Energy, LLC, project would have an average annual generation of 87.77 gigawatt-hours and be sold to a local utility.

Applicant Contact: Mr. Philippe Vauthier, UEK Corporation, Box 3124, Annapolis, MD 21403, phone (410) 267-6507. Mr. Howard Barousee, Prospect Energy, LLC, 5629 FM West # 354, Houston, TX 77069, Phone (713) 516-6507.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13280) in the docket number field to access the document. For assistance, call toll-free 1-866-208-3372.

Kimberly D. Bose,
Secretary.

[FR Doc. E8-28779 Filed 12-4-08; 8:45 am]

BILLING CODE 6717-01-P